COMMODITY FUTURES TRADING COMMISSION

Agricultural Advisory Committee

AGENCY: Commodity Futures Trading Commission.

ACTION: Notice of meeting.

SUMMARY: The Commodity Futures Trading Commission (CFTC) announces that on Thursday, April 5, 2018, from 9:00 a.m. to 12:00 p.m., the Agricultural Advisory Committee (AAC) will hold a public meeting in Overland Park, Kansas. At this meeting, the AAC will discuss items related to price discovery and risk management in agricultural markets.

DATES: The meeting will be held on Thursday, April 5, 2018, from 9:00 a.m. to 12:00 p.m. Members of the public who wish to submit written statements in connection with the meeting should submit them by April 12, 2018.

ADDRESSES: The meeting will take place at the Sheraton Overland Park Convention Center at 6100 College Boulevard, Overland Park, Kansas 66211. You may submit public comments, identified by “Agricultural Advisory Committee,” by any of the following methods:

• CFTC website: https://comments.cftc.gov. Follow the instructions to Submit Comments through the website.

• Mail: Send comments to Christopher Kirkpatrick, Secretary of the Commission, Commodity Futures Trading Commission, Three Lafayette Center, 1155 21st Street, NW, Washington, DC 20581.

• Hand Delivery/Courier: Same as Mail, above.

Any statements submitted in connection with the committee meeting will be made available to the public, including publication on the CFTC website, http://www.cftc.gov.

FOR FURTHER INFORMATION CONTACT: Charlie Thornton, AAC Designated Federal Officer, Commodity Futures Trading Commission, Three Lafayette Centre, 1155 21st Street NW, Washington, DC 20581; (202) 418-5500.

SUPPLEMENTARY INFORMATION: The meeting will be open to the public with seating on a first-come, first-served basis. Members of the public may also listen to the meeting by webinar. The meeting agenda may change to accommodate other AAC priorities. For agenda updates and instructions to access the meeting as a webinar (forthcoming), please visit the AAC committee site at: http://www.cftc.gov/About/CFTCCommittees/AgriculturalAdvisory/aac_meetings.

After the meeting, a transcript of the meeting will be published through a link on the CFTC's website, http://www.cftc.gov. All written submissions provided to the CFTC in any form will also be published on the CFTC's website.

The public meeting is physically accessible to people with disabilities. Persons requiring special accommodations to attend the meeting such as sign language interpretation or other ancillary aids because of a disability are asked to notify the contact person above at least ten (10) days in advance of the meeting.

Dated: March 15, 2018.
Christopher J. Kirkpatrick,
Secretary of the Commission.

(Authority: 5 U.S.C. app. 2 § 10(a)(2)).

[FR Doc. 2018-05614 Filed 3-19-18; 8:45 am]

BILLING CODE 6351-01-P